DEPARTMENT OF AGRICULTURE

Forest Service

Revised Land and Resource Management Plan for the Shawnee National Forest (Alexander, Gallatin, Hardin, Jackson, Johnson, Massac, Pope, Saline, Williamson, and Union Counties, IL)

AGENCY: Forest Service, USDA.

ACTION: Notice of Intent to prepare Environmental Impact Statement (EIS).

SUMMARY: The USDA Forest Service intends to prepare an EIS for revising the Shawnee National Forest Land and Resource Management Plan (Forest Plan) pursuant to 16 U.S.C. 1604(f)(5) and USDA Forest Service National Forest System Land and Resource Management Planning regulations. The revised Forest Plan will supersede the Forest Plan, which the Regional Forester approved November 24, 1986, and the significant amendment approved May 14, 1992. This Notice describes the focus areas of change, the estimated dates for filing the EIS, the information concerning public participation, and the names and addresses of the responsible agency official and the individual who can provide additional information.

DATES: We need to receive your comments on this Notice of Intent (NOI) in writing within 60 days after this notice is published in the Federal Register. The Draft EIS should be available for public review by December 2003. The Final EIS and revised Forest Plan should be completed by September 2004.

ADDRESSES: Send written comments to: NOI-FP Revision, Shawnee National Forest, 50 Hwy. 145 South, Harrisburg, IL 62946. Or direct electronic mail to mlross@fs.fed.us Attn: Forest Plan Revision.

FOR FURTHER INFORMATION CONTACT: Forest Planner, at 618-253-7114. TDY 618-253-1070, or direct electronic mail to: mlross@fs.fed.us or access the Forest web page at www.fs.fed.us/r9/shawnee.

RESPONSIBLE OFFICIAL: Regional Forester, Eastern Region, 310 W. Wisconsin Ave, Milwaukee, Wisconsin 53203.

SUPPLEMENTARY INFORMATION: The Regional Forester for the Eastern Region gives notice of the agency's intent to prepare an EIS to revise the Shawnee National Forest Plan. The Regional Forester approved the original Shawnee National Forest Plan in November 1986. In May 1992, the Regional Forester approved a significant amendment that substantially replaced the 1986 Forest Plan. This plan guides the overall management of the Shawnee National Forest. We make six primary decisions in the Forest Plan:

1. Forest-wide multiple-use goals and objectives;

2. Forest-wide management requirement;

3. Management area direction;

4. Lands suited and not suited for resource use and production (timber management, etc.);

5. Monitoring and evaluation requirements; and

6. Recommendations to Congress (such as wilderness), if any.

By the requirements of the National Forest Management Act, national forests must revise the Forest Plan every 10-15 years (U.S.C. 1604(f)(5)). At this time, there are three reasons to revise the 1986 and 1992 Amended Forest Plans: (1) The National Forest Management Act of 1976 requires that such plans be revised every 10-15 years (the Regional Forester approved the original Shawnee National Forest Plan in November 1986 and approved the Amended Shawnee National Forest Plan in May 1992); (2) Court direction for additional analysis of certain portions of the 1992 Amended Forest Plan; and (3) agency goals and objectives, along with other national guidance for strategic plans and programs, have changed; The agency Government Performance and Results Act Strategic Plan (2000) has shifted the course of agency program emphasis to sustainability.

In many southern Illinois communities, people value the opportunities public forests provide for enjoying recreation, solitude, nature study, and scenic beauty. People also expect important products from managed forests, such as game species for hunting, commercial recreation events, wood products, and minerals. The Shawnee National Forest is integral to the sense of place for communities across southern Illinois. When making decisions in the revised plan, we would examine economic and social impacts to local communities and at a broader regional level, as well as biological impacts.

We propose to focus our analysis on topics identified as being most critically in need of change. These were identified through public comment and monitoring and evaluation.

Plan Opportunities, Goals and Objectives: We propose changing the Forest Plan's opportunities, goals and objectives by changing the timber resource management goal to a goal for promoting forest ecosystem health and sustainability. This would also result in changes to Forest Plan objectives and standards and guidelines related to timber resource management.

Revision Topics:

1. Watershed Resources,

2. Biological Diversity and Wildlife/Aquatic Habitat;

3. Recreation Management;

4. Forest Ecosystem Health and Sustainability;

5. Mineral Resources;

6. Wilderness, Roadless Areas, Wild and Scenic Rivers; and

7. Land Ownership Adjustment.

Additional detail on the revision topics is available on request, in the form of the document titled “Need for Change, Description of Proposal for Revising the Forest Plan of the Shawnee National Forest”. You are encouraged to review this additional document before commenting on the NOI. You may request the additional information by calling the phone number listed above, by writing or e-mailing to the addresses listed in this notice, or by accessing the Forest web page at www.fs.fed.us/r9/shawnee.

We propose the following direction or actions for each topic:

1. Watershed Resources:

• Develop a management prescription 6.2 and standards and guidelines for Inahgeh lands and other lands on the historic Mississippi River floodplain;

• Develop a management prescription 6.1 for priority watersheds that provide local drinking water supplies;

• Establish criteria for prioritizing watershed protection and restoration; and

• Review and update the riparian area filterstrip standards and guidelines (6.3 management prescription).

2. Biological Diversity, Wildlife and Aquatic Habitat:

• Refine management direction for forest interior birds;

• Create a 6.7 management prescription for large openland habitat;

• Review Forest-wide standards and guidelines for wildlife opening management;

• Revise standards and guidelines for threatened and endangered species and other species of concern;

• Identify and protect ecosystems at risk of loss or degradation;

• Develop criteria for control of invasive species that are presently degrading native ecosystems;

• Modify current list of Management Indicator Species to represent all communities;

• Develop management area prescriptions and standards and guidelines for habitat restoration in Inahgeh lands;

• Adjust the boundary of the 1.3 management area at Oakwood Bottoms Greentree Reservoir to include recently acquired adjacent forested lands;

• Revise the standards and guidelines pertaining to pesticide use for fish and wildlife management purposes; and

• Review list of species of recreation interest.

3. Recreation Management:

• Expand recreation management goal to include providing a comprehensive system of designated trails that are marked, mapped, designed, and maintained for all season use;

• Restrict equestrian use to system trails and to roads open to vehicular travel;

• Eliminate the Amended Forest Plan map pertaining to ATV/OHM travelways and hiker/equestrian trail corridors;

• Allow ATV/OHM use for access to National Forest land on selected Forest System roads (primarily lower standard local system roads) and close those roads to use by vehicles over 50 inches wide;

• The ATV Access Permit for people with disabilities will be discontinued because all users will be allowed to access the Forest using ATV/OHM's on certain roads;

• Allow mountain bike use on open roads and on designated trails, and provide for links to the rails-to-trails system, where available;

• Revise recreation goal statement to include both developed and dispersed recreation management, emphasizing increased benefits to the public and cost-effective operation. Provide direction to evaluate continued operation of low use or high unit cost recreation areas, and provide direction for new recreation developments; and

• Convert visual management direction from the Visual Management System to the new national Scenery Management System.

4. Forest Ecosystem Health and Sustainability:

• Replace the timber resource management goal with a goal to provide for and enhance forest ecosystem health and sustainability;

• The land base suitable for timber production and the associated allowable sale quantity will be re-evaluated;

• Revise timber management objectives and standards and guidelines;

• Maintain a dominance of oak-hickory in management areas 1.3, 2.1, and 6.6. Add an oak-hickory objective for other management areas based on historic occurrence and ecological landtypes;

• Drop objective for range management except for research purposes;

• Subdivide the 2.1 and 6.6 management areas to reflect differences along ecological boundaries;

• Change management area designation of Fountain Bluff and Iron Mountain from 8.3 to 6.6, to allow for active vegetation management, while providing for protection of heritage resources;

• Revise the standards and guidelines pertaining to pesticide use; and

• Address the control of invasive species and noxious weeds through Forest-wide standards and guidelines.

5. Mineral Resources:

• Decide on suitability and availability regarding oil and gas leasing. No decision will be made on consent to lease at the Forest Plan level; and

• With regard to other direction on oil, gas, and other minerals, no change will be made in the Amended Plan.

6. Wilderness, Roadless Areas, Wild and Scenic Rivers:

• Based on the results of a Forest-wide roadless area analysis, recommendations to Congress for wilderness may be developed;

• Develop appropriate management prescriptions for the Camp Hutchins area and the inventoried roadless area known as Burke Branch and other roadless areas if they are not recommended for wilderness designation;

• Modify standards and guidelines for 5.1 management prescription based on the physical and social issues regarding wilderness, as identified during the Forest Plan revision process;

• Delete 5.2 management area designations;

• Increase the allowable system trail densities in wilderness to a maximum of 2 miles of trail per square mile.

• Formulate management area standards and guidelines for cemetery access and maintenance in wilderness; and

• Complete the classification process of the six streams eligible for study as part of the Wild and Scenic River System, and revise the 9.2 management prescription standards and guidelines to reflect the results of the classification process. If any additional rivers are identified for potential wild and scenic river designation, we will determine their eligibility and highest potential classification.

7. Land Adjustment:

• Revise prioritization list standard and guideline for surface ownership to include the 6.6 management prescription, remove the 5.2 management prescription, and incorporate other management prescriptions that may be identified;

• Recommend a boundary adjustment that incorporates portions of the Mississippi River floodplain into the proclamation boundary and eliminates portions of the proclamation boundary where additional acquistion is not likely;

• Eliminate the Forest Consolidation Map;

• Emphasize acquisition of all available property rights in each land adjustment case; and

• Provide recommendation for statutory boundary adjustment.

New Planning Regulations: The Department of Agriculture published new planning regulations in November of 2000. Concerns regarding the ability to implement these regulations prompted a review with probable revision of these regulations. On May 10, 2001 USDA Secretary Veneman signed an interim final rule extending for one year the May 9, 2001 date by which all land and resource management plan amendments and revisions will be subject to the requirements of the new planning rule adopted November 9, 2000. The interim rule provides that May 9, 2002 a responsible official may elect to continue or to initiate new plan amendments or revisions under the 1982 planning regulations or that the responsible official may initiate amendments or revisions under the new planning rule. The Shawnee National Forest will proceed under the 1982 planning regulations.

Range of Alternatives: We will consider a range of alternatives when revising the Forest Plan. The alternatives will address different options to resolve issues over the focus areas of change listed above and to fulfill the purpose and need. A “no-action alternative” is required, meaning that management would continue under the existing Forest Plan. Alternatives will provide different ways to address and respond to issues identified during the scoping process.

The alternatives will display different mixes of recreation opportunities and experiences. Alternatives will display different mixes of wildlife habitats across the forest. The mix will vary by the objectives of the particular alternative, though each alternative will strive to provide habitat necessary to maintain viable populations of plant and animal species. We will analyze alternatives that examine different levels of vegetation management, including more and less timber harvest. Management of roadless areas will vary by the objectives of any particular alternative, physical criteria for evaluating each individual roadless area, and public input.

We may make other minor changes, particularly in the guidance chapter of the Forest Plan, to reflect changes made when addressing the above revision topics.

Inviting Public Participation: We are now soliciting comments and suggestions from federal agencies, state and local governments, individuals, and organizations on the scope of the analysis to be included in the DEIS for the revised Forest Plan (40 CFR 1501.7). Comments should focus on: (1) The proposal for revising the Forest Plan; (2) possible alternatives for addressing issues associated with the proposal; and (3) identify any possible impacts associated with the proposal based on an individual's civil rights (race, color, national origin, age, religion, gender, disability, political beliefs, sexual orientation, marital or family status). We will encourage public participation in the environmental analysis and decision-making process.

In spring 2002 we are releasing our NOI and proposal. We will have many types of public involvement including 60-day formal comment period, public meetings, written comments, website, and e-mail.

Following publication of this NOI, the Forest Service will host a series of public meetings to (1) Establish multiple opportunities for the public to generate ideas, concerns, and alternatives, (2) present and clarify proposed changes to the Forest Plan; (3) describe ways that individuals can respond to this NOI; and (4) accept comments from the public on this proposal for revising the Forest Plan.

In the year 2002 we will work on alternative development and issue validation. We will have many types of public involvement including: public workshops, collaborative meetings, written comments, website, and e-mail.

In the year 2003 we will release our proposed revised Forest Plan and DEIS. We will have many types of public involvement including 90-day formal comment period, public meetings, and written comments.

During 2004 we will release the decision, final revised Forest Plan, EIS, and Record of Decision. We will have informational meetings to explain the decisions on the final Forest Plan.

We will provide the public with general notice on opportunities to participate through mailings, news releases, public meetings, and website (www.fs.fed.us/r9/shawnee). In addition to formal opportunities for public comment, we will consider comments received at any time throughout the revision process.

The Shawnee National Forest will host five open house meetings to (1) answer specific questions relative to the NOI and (2) provide information on how to comment on the NOI and to accept written comments from the public. All information shared by the Forest Service will be identical at each meeting. Following is a schedule of the meetings.

April 2, 2002:
2:00-7:00 p.m | Eddyville Community Center, Eddyville, IL 62928.
April 3, 2002:
2:00-7:00 p.m | Ralph Metcalf Federal Building, 77 West Jackson Blvd., Chicago, IL 60404.
April 4, 2002:
2:00-7:00 p.m | Fisher's Hotel and Conference Center, 2100 West Main St., Belleville, IL 62226.
April 10, 2002:
2:00-7:00 p.m | Executive Inn Evansville, 600 Walnut St., Evansville, IN 47708.
April 11, 2002:
2:00-7:00 p.m | Travelodge & Convention Center, 2600 West DeYoung, Marion, IL 62959.

Availability of Public Comment

Comments received in response to this solicitation, including names and addresses of those who comment, will be considered part of the public record for this proposed action and will be available for public inspection. Comments submitted anonymously will be accepted and considered. However, those who submit anonymous comments will not have standing to appeal the subsequent decisions under 36 CFR parts 215 or 217.

Additionally, pursuant to 7 CFR 1.27(d), any person may request the agency to withhold a submission from the public record by showing how the Freedom of Information Act (FOIA) permits such confidentiality. Persons requesting such confidentiality should be aware that under FOIA, confidentiality may be granted in only very limited circumstances, such as to protect trade secrets.

The Forest Service will inform the requester of the agency's decision regarding the request for confidentiality and when the requester is denied, the agency will return the submission and notify the requester that the comments may be resubmitted with or without name and address within 90 days.

Release and Review of the DEIS

The DEIS is expected to be filed with the Environmental Protection Agency (EPA) and to be available for public comment in 2003. At that time, the EPA will publish a Notice of Availability in the Federal Register. The comment period on the DEIS will be 90 days from the date the EPA publishes the Notice of Availability in the Federal Register.

The Forest Service believes it is important to give reviewers notice of several court rulings related to public participation in the environmental review process. First, reviewers of DEIS's must structure their participation in the environmental review of the proposal so that it is meaningful and alerts an agency to reviewer's position and contentions [Vermont Yankee Nuclear Poser Corp. v. NRDS, 435 U.S. 519, 553 (1978)]. Also, environmental objections that could be raised at the DEIS stage but that are not raised until after completion of the final EIS may be waived or dismissed by the courts (City of Angoon v. Hodel, 803 F.2d 1016, 1022 (9th cir. 1986) and Wisconsin Heritages, Inc. v. Harris, 490 F. Supp. 1334, 1338 (E.D. Wis. 1980). Because of these court rulings it is very important that those interested in this proposed action participate by the close of the 90-day comment period so substantive comments and objections are made available to the Forest Service at a time when it can meaningfully consider them and respond to them in the final EIS.

To assist the Federal Service in identifying and considering issues and concerns on the proposed action, comments on the DEIS should be as specific as possible. It is also helpful if comments refer to specific pages or chapters of the DEIS. Comments may also address the adequacy of the DEIS or the merits of the alternatives formulated and discussed in the statement. Reviews may wish to refer to the Council of Environmental Quality Regulations (http://ceq.eh.doe.gov/nepa/nepanet.htm) for implementing the procedural provision of he National Environmental Policy Act at 40 CFR 1503.3 in addressing these points.

Dated: March 12, 2002.
Donald L. Meyer,
Acting Regional Forester.

[FR Doc. 02-6678 Filed 3-19-02; 8:45 am]

BILLING CODE 3410-11-M